SECURITIES AND EXCHANGE COMMISSION

[File No. 500-1]

Greatmat Technology Corp., Kentucky USA Energy, Inc., Solar Energy Ltd., and Visiphor Corp., Order of Suspension of Trading

May 23, 2013.

It appears to the Securities and Exchange Commission that there is a lack of current and accurate information concerning the securities of GreatMat Technology Corp. because it has not filed any periodic reports since the period ended December 31, 2010.

It appears to the Securities and Exchange Commission that there is a lack of current and accurate information concerning the securities of Kentucky USA Energy, Inc. because it has not filed any periodic reports since the period ended April 30, 2010.

It appears to the Securities and Exchange Commission that there is a lack of current and accurate information concerning the securities of Solar Energy Ltd. because it has not filed any periodic reports since the period ended December 31, 2010.

It appears to the Securities and Exchange Commission that there is a lack of current and accurate information concerning the securities of Visiphor Corp. because it has not filed any periodic reports since the period ended March 31, 2008.

The Commission is of the opinion that the public interest and the protection of investors require a suspension of trading in the securities of the above-listed companies.

Therefore, it is ordered, pursuant to Section 12(k) of the Securities Exchange Act of 1934, that trading in the securities of the above-listed companies is suspended for the period from 9:30 a.m. EDT on May 23, 2013, through 11:59 p.m. EDT on June 6, 2013.

By the Commission.
Jill M. Peterson,
Assistant Secretary.

[FR Doc. 2013-12677 Filed 5-23-13; 11:15 am]

BILLING CODE 8011-01-P